DEPARTMENT OF AGRICULTURE

Foreign Agricultural Service

Affirmation of the Total Amount of the Fiscal Year 2006 Tariff-Rate Quota for Sugar and Certain Imported Sugars, Syrups, and Molasses (Refined Sugar) Imported From Mexico

AGENCY: Foreign Agricultural Service, USDA.

ACTION: Notice of Affirmation.

SUMMARY: This notice establishes the aggregate quantity of 250,383 metric tons, raw value, of sugar that may enter the United States Customs Territory from Mexico during fiscal year (FY) 2006 under the market access provisions of Chapter 7, Annex 703.2 of the North American Free Trade Agreement (NAFTA) under subheadings 1701.11.10, 1701.12.10, 1701.91.10, 1701.99.10, 1702.90.10, and 2106.90.44 of the Harmonized Tariff Schedule of the United States (HTS).

DATES: Effective Date: October 1, 2005.

FOR FURTHER INFORMATION CONTACT: Robert Curtis, Director, Import Policies and Programs Division, Foreign Agricultural Service, AgStop 1021, South Building, U.S. Department of Agriculture, Washington, DC 20250-1021 or telephone (202) 720-2916, fax to (202) 720-0876, or e-mail Robert.Curtis@fas.usda.gov.

SUPPLEMENTARY INFORMATION: Annex 703.2 of the NAFTA provides for trade in sugar and syrup goods based on annual estimates of net production surpluses in the United States and Mexico beginning in 2001, the seventh marketing year of the agreement. To facilitate estimates of supply and demand prior to the beginning of each marketing year, Section A, paragraph 13, of the Annex provides for bilateral consultations before July 1.

In addition to duty-free access to the U.S. sugar market under NAFTA, Mexico may enter under the provisions of Additional U.S. Note 5 of chapter 17 of the HTS 2,954 metric tons, raw value, of duty-free sugar under subheadings 1701.12.10, 1701.91.10, 1701.99.10, 1702.90.10 and 2106.90.44 during a FY 2006 quota period which opened September 8, 2005.

Notice: I hereby give notice, in accordance with Annex 703.2 of the NAFTA, that an aggregate quantity of up to 250,383 metric tons, raw value, of sugar described in subheadings 1701.11.10, 1701.12.10, 1701.91.10, 1701.99.10, 1702.90.10 and 2106.90.44, of the HTS may be entered or withdrawn from warehouse for consumption during the period from October 1, 2005, through September 30, 2006. The quantity is based upon the Department's projection of Mexico's net production surplus of sugar which is available for export to the United States. The entire amount, which is authorized for duty-free entry, is accounted for by the domestic cane sugar marketing allotment that the Commodity Credit Corporation (CCC) estimates will not be filled in FY 2006. CCC is reassigning this deficit quantity to imports, pursuant to section 359e(b)(1)(D) of the Agricultural Adjustment Act of 1938, as amended (7 U.S.C. 1359ee(b)(1)(D)).

I have further determined that all entries of sugar entered from Mexico under the provisions of Annex 703.2 of the NAFTA during FY 2006 require Certificates for Quota Eligibility issued by the USDA Licensing Authority.

Signed at Washington, DC the 18th day of January, 2006.
A. Ellen Terpstra,
Administrator, Foreign Agricultural Service.

[FR Doc. E6-1030 Filed 1-26-06; 8:45 am]

BILLING CODE 3410-10-P